FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
003489F | McClellan, Lavone W. dba Acts Customs Brokers, 1386 Salford, Houston, TX 77032 | October 28, 2011.
017582F | Trans Global Logistics, Inc., #1 Conan Drive, Midland City, AL 36350 | October 7, 2011.

Sandra L. Kusumoto,
Director, Bureau of Certification and Licensing.

[FR Doc. 2011-31438 Filed 12-6-11; 8:45 am]

BILLING CODE 6730-01-P